DEPARTMENT OF DEFENSE

Department of the Navy

[Docket ID: USN-2023-HQ-0008]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by August 25, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Navy Insider Threat Report Form; OPNAV Form 5510/423; OMB Control Number 0703-ISTF.

Type of Request: New.

Number of Respondents: 100.

Responses per Respondent: 1.

Annual Responses: 100.

Average Burden per Response: 15 minutes.

Annual Burden Hours: 25.

Needs and Uses: The U.S. Navy Insider Threat Program/Navy Analytic Hub (Navy Hub) is requiring information collection in accordance with Executive Order 13587, “Structural Reforms to Improve the Security of Classified Networks and the Responsible Sharing and Safeguarding of Classified Information,” which directs U.S. government executive branch departments and agencies to establish, implement, monitor, and report on the effectiveness of insider threat programs to protect classified national security information, and requires the development of an executive branch program for the deterrence, detection, and mitigation of insider threats or other unauthorized disclosure. Accordingly, the Navy Hub is soliciting standardized information via OPNAV Form 5510/423, “Navy Insider Threat Report.” The use of this form allows the Navy to collect the required information by means of a single vehicle, rather than through repeated communication. Hence, Navy Hub's mission is to prevent, detect, deter, and mitigate insider threat risks from potential malicious or unwitting Navy insiders by gathering, integrating, reviewing, assessing, and responding to information about potential insider threats. The OPNAVINST 5510.165B, “Navy Insider Threat Program,” which prescribes this new form, provides instruction to all U.S. Navy commands, activities and field offices with responsibilities as it pertains to Insider Threat.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: July 19, 2023.
Aaron T. Siegel,
Alternate OSD Federal Register Liaison Officer, Department of Defense.

[FR Doc. 2023-15793 Filed 7-25-23; 8:45 am]

BILLING CODE 5001-06-P